DEPARTMENT OF THE INTERIOR

Bureau of Land Management

[LLWY03000 L13100000.EI0000]

Notice of Intent To Amend the Rawlins Resource Management Plan for the Rawlins Field Office and Prepare an Associated Environmental Assessment

AGENCY: Bureau of Land Management, Interior.

ACTION: Notice of intent.

SUMMARY: In accordance with the National Environmental Policy Act of 1969, as amended, and the Federal Land Policy and Management Act of 1976, as amended, the Bureau of Land Management (BLM), Rawlins Field Office (RFO), Rawlins, Wyoming, intends to prepare a Resource Management Plan (RMP) amendment with an associated Environmental Assessment (EA) for the RFO and by this notice is announcing the beginning of the scoping process to solicit public comments and identify issues.

DATES: This notice initiates the public scoping process for the RMP amendment with an associated EA. Comments on issues may be submitted in writing until August 20, 2014. The date(s) and location(s) of any scoping meetings will be announced at least 15 days in advance through local news media, newspaper, and the BLM Web site at: http://www.blm.gov/wy/st/en/programs/Planning/rmps/rawlins/water.html. In order to be included in the analysis, all comments must be received prior to the close of the 30-day scoping period or 15-days after the last public meeting, whichever is later. We will provide additional opportunities for public participation, as appropriate.

ADDRESSES: You may submit comments related to the RMP Amendment and associated EA for municipal water source protection by any of the following methods:

• Web site: http://www.blm.gov/wy/st/en/programs/Planning/rmps/rawlins/water.html

• Email: blm_wy_rfo_rmp_water_amend@blm.gov. Please reference “Rawlins RMP Water Supply Amendment” in the subject line.

• Fax: (307) 328-4224.

• Mail: Bureau of Land Management, Rawlins Field Office, 1300 North Third Street, Rawlins, Wyoming 82301, or P.O. Box 2407, Rawlins, Wyoming 82301-2407.

Documents pertinent to this proposal may be examined at the Rawlins Field Office, 1300 North Third Street, Rawlins, Wyoming 82301.

FOR FURTHER INFORMATION CONTACT: Jennifer Fleuret, Rawlins Field Office Project Manager, Telephone 307-328-4314; address Bureau of Land Management, Rawlins Field Office, 1300 North Third Street, Rawlins, Wyoming 82301; Email blm_wy_rfo_rmp_water_amend@blm.gov. Contact Ms. Fleuret to have your name added to our mailing list. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This document provides notice that the BLM Rawlins Field Office, Rawlins, Wyoming, intends to prepare an RMP amendment with an associated EA for the RFO and announces the beginning of the scoping process, and seeks public input on issues and planning criteria. The planning area is located in Carbon and Albany Counties, Wyoming, and encompasses approximately 12,425.34 acres of public land. The analysis of closing this area to oil and gas leasing was not conducted when the Rawlins Field Office RMP was finalized in 2008; therefore, this amendment is necessary to consider management of the BLM administered lands within these municipal water sources. The acreage was determined based on the location of the water sources in relation to BLM surface and sub-surface mineral estate and the extent of the watersheds draining to these sources. Of the 12,425.34 acres, 9,335.42 acres are located approximately 27 miles south of the town of Rawlins; 2,320 acres are located approximately 3.5 miles east of the town of Saratoga, and 769.92 acres are located 11 miles northeast of Laramie. The parcels are located in the following townships:

6th Principal Meridian

T. 16 N., R. 72 W.,

Sec. 4.

T. 16 N., R. 87 W.,

Sec. 6, lots 3 to 8, inclusive, and lots 13 to 15, inclusive.

T. 16 N., R. 88 W.,

Tract 38A;

Tract 38B;

Tract 38C;

Sec. 1, lots 11 to 18 inclusive;

Sec. 2, lots 11 to 27, inclusive;

Sec. 3, lots 11 to 21, inclusive, lots 23 to 26, inclusive, W½SW¼, and E½SE¼;

Sec. 4, lots 11 to 22, inclusive, and S½;

Sec. 5;

Sec. 6, lots 14 to 28, inclusive, and SE¼;

Sec. 9, NE¼;

Sec. 10, lots 1 and 2, E½NE¼, SW¼NE¼, W½NW¼, and SE¼NW¼.

T. 17 N., R. 83 W.,

Sec. 4, S½NW¼ and SW¼;

Sec. 5, S½SE¼ and S½SW¼;

Sec. 8;

Sec. 9;

Sec. 10.

T. 17 N., R. 87 W.,

Sec. 30, lots 1, 2, and 4, NE¼NE¼, S½NE¼, SE¼NW¼, E½SW¼, and SE¼;

Sec. 31.

T. 17 N., R. 88 W.,

Sec. 23, W½NE¼, W½, and SE¼;

Sec. 24, W½NE¼, SE¼NE¼, E½NW¼, S½SW¼, and NE¼SW¼;

Sec. 25, E½, E½NW¼, and E½SW¼;

Sec. 28, W½;

Sec. 29;

Sec. 32;

Sec. 33, W½ and SE¼;

Sec. 34, E½ and SW¼;

Sec. 36, E½SE¼.

The purpose of the scoping process is to determine relevant issues that will influence the scope of the environmental analysis, including alternatives, and guide the planning process. Preliminary issues have been identified by BLM personnel; Federal, State, and local agencies; and other stakeholders. The issues include potential impacts related to conflicting land uses, including oil and gas development; wind turbine generator placement; and potential socioeconomic issues. The RMP amendment will consider closure of 12,425.34 acres of BLM surface and sub-surface mineral estate to oil and gas leasing due to concerns raised by communities regarding the protection of drinking water sources adjacent to the cities of Rawlins, Saratoga, and Laramie. Opportunities for on-site, regional, and compensatory mitigation strategies would be formulated through discussions with cooperators and other stakeholders. Preliminary planning criteria include:

• Planning decisions will cover BLM-administered public lands;

• Planning decisions will include split-estate lands where the BLM has jurisdiction over the mineral estate;

• The planning process would be collaborative and multi-jurisdictional in nature;

• The environmental analysis will consider a reasonable range of alternatives;

• The BLM will consider current scientific information, research, new technologies, and the results of resource assessments, monitoring, and coordination;

• The BLM will consider current potential future uses of the public lands, through the development of reasonably foreseeable future development and activity scenarios; and

• Decisions in the RMP amendment will comply as appropriate to all applicable laws, regulations, policy, and guidance.

You may submit comments on issues and planning criteria in writing to the BLM at any public scoping meeting, or you may submit them to the BLM using one of the methods listed in the ADDRESSES section above. To be most helpful, you should submit comments by the close of the 30-day scoping period or within 15 days after the last public meeting, whichever is later.

The BLM will use the NEPA public participation requirements to assist the agency in satisfying the public involvement requirements under Section 106 of the National Historic Preservation Act (NHPA) (16 U.S.C. 470(f)) pursuant to 36 CFR 800.2(d)(3). The information about historic and cultural resources within the area potentially affected by the proposed action will assist the BLM in identifying and evaluating impacts to such resources in the context of both NEPA and Section 106 of the NHPA.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action that the BLM is evaluating, are invited to participate in the development of the environmental analysis as a cooperating agency. The minutes and list of attendees for each scoping meeting will be available to the public and open for 30 days after the meeting to any participant who wishes to clarify the views he or she expressed. The BLM will evaluate identified issues to be addressed in the plan, and will place them into one of three categories:

1. Issues to be resolved in the plan amendment;

2. Issues to be resolved through policy or administrative action; or

3. Issues beyond the scope of this plan amendment.

The BLM will provide an explanation in the Draft RMP amendment as to why an issue was placed in category two or three. The public is also encouraged to help identify any management questions and concerns that should be addressed in the plan. The BLM will work collaboratively with interested parties to identify the management decisions that are best suited to local, regional, and national needs and concerns.

The BLM will use an interdisciplinary approach (including, but not limited to, analysis of potential impacts related to hydrology, soils, archaeology, wildlife, minerals, and socioeconomics) to develop the RMP amendment in order to consider the variety of resource issues and concerns identified.

Before including your address, phone number, email address, or other personal identifying information in your comment, you should be aware that your entire comment—including your personal identifying information—may be made publicly available at any time. While you can ask us in your comment to withhold your personal identifying information from public review, we cannot guarantee that we will be able to do so.

Authority: 40 CFR 1501.7 and 43 CFR 1610.2

Larry Claypool,
Acting State Director.

[FR Doc. 2014-17007 Filed 7-18-14; 8:45 am]

BILLING CODE 4310-22-P